DEPARTMENT OF TRANSPORTATION

Coast Guard

[CGD08-01-033]

Lower Mississippi River Waterway Safety Advisory Committee

AGENCY: Coast Guard, DOT.

ACTION: Notice of meeting.

SUMMARY: The Lower Mississippi River Waterway Safety Advisory Committee (LMRWSAC) will meet to discuss various issues relating to navigational safety on the Lower Mississippi River and related waterways. The meeting will be open to the public.

DATES: LMRWSAC will meet on Tuesday, October 16, 2001, from 9 a.m. to 12 noon. This meeting may close early if all business is finished. Written material and requests to make oral presentations should reach the Coast Guard on or before October 5, 2001. If you would like a copy of your material distributed to each member of the committee in advance of the meeting, please submit 50 copies to the Committee Administrator at the location indicated under Addresses no later than October 5, 2001.

ADDRESSES: LMRWSAC will meet in the basement conference room of the Hale Boggs Federal Building, 501 Magazine Street, New Orleans, LA. Send written material and requests to make oral presentations to LT(jg) Zeita Merchant, Committee Administrator, c/o Commanding Officer, Marine Safety Office New Orleans, 1615 Poydras Street, New Orleans, LA 70112.

FOR FURTHER INFORMATION CONTACT: For questions on this notice, contact LT(jg) Zeita Merchant, Committee Administrator, telephone (504) 589-4222, Fax (504) 589-4241.

SUPPLEMENTARY INFORMATION: Notice of this meeting is given under the Federal Advisory Committee Act, 5 U.S.C. App. 2.

Agenda of Meeting

Lower Mississippi River Waterway Safety Advisory Committee (LMRWSAC). The agenda includes the following:

(1) Introduction of committee members

(2) Remarks by RADM R. Casto, Committee Sponsor

(3) Approval of the April 19, 2001 minutes

(4) Old Business:

COTP Update report

VTS Update report

(5) New Business

(6) Next meeting

(7) Adjournment

Procedural

The meeting is open to the public. Please note that the meeting may close early if all business is finished. At the Chair's discretion, members of the public may make oral presentations during the meeting. If you would like to make an oral presentation at the meeting, please notify the Committee Administrator no later than October 5, 2001. Written material for distribution at the meeting should reach the Coast Guard no later than October 5, 2001. If you would like a copy of your material distributed to each member of the committee in advance of the meeting, please submit 50 copies to the Committee Administrator at the location indicated under Addresses no later than October 5, 2001.

Information on Services for Individuals With Disabilities

For information on facilities or services for individuals with disabilities, or to request special assistance at the meetings, contact the Committee Administrator at the location indicated under Addresses as soon as possible.

Dated: September 12, 2001.
J.R. Whitehead,
Captain, U.S. Coast Guard, Acting Commander, 8th Coast Guard Dist.

[FR Doc. 01-23713 Filed 9-21-01; 8:45 am]

BILLING CODE 4910-15-P